DEPARTMENT OF VETERANS AFFAIRS

Enhanced-Use Lease Development of Property at the Department of Veterans Affairs Medical Center, Hines, IL

AGENCY: Department of Veterans Affairs.

ACTION: Notice of intent to designate.

SUMMARY: The Secretary of the Department of Veterans Affairs (VA) is designating a site at the Edward Hines Jr., Veterans Affairs Medical Center, Hines, Illinois, for an enhanced-use lease development. The Department intends to enter into a long-term lease of real property with Catholic Charities, a not-for-profit charitable organization that will finance, design, develop, maintain and manage a transitional living center and low-income senior residence for veterans and non-veterans, at no cost to VA.

FOR FURTHER INFORMATION CONTACT: Jake Gallun, Office of Asset Enterprise Management (004B2), Department of Veterans Affairs, 810 Vermont Avenue, NW., Washington, DC 20420, (202) 273-8862.

SUPPLEMENTARY INFORMATION: 38 U.S.C. 8161 et seq., specifically provides that the Secretary may enter into an enhanced-use lease, if he determines that: At least part of the use of the property under the lease will be to provide appropriate space for an activity contributing to the mission of the Department; the lease will not be inconsistent with and will not adversely affect the mission of the Department; and the lease will enhance the property or result in improved services to veterans. This project meets these requirements.

Approved: December 2, 2002.
Anthony J. Principi,
Secretary of Veterans Affairs.

[FR Doc. 02-31123 Filed 12-9-02; 8:45 am]

BILLING CODE 8320-01-P